DEPARTMENT OF TRANSPORTATION

Federal Aviation Administration

Public Notice for Waiver of Aeronautical Land-Use Assurance Delta County Airport Escanaba, MI

AGENCY: Federal Aviation Administration, DOT.

ACTION: Notice of intent of waiver with respect to land.

SUMMARY: The Federal Aviation Administration (FAA) is considering a proposal to change a portion of the airport from aeronautical use to non-aeronautical use and to authorize the lease of the airport property. The proposal consists of 1 parcel of land, totaling approximately 3.6 acres. Current use and present condition is undeveloped land compatible with local commercial/industrial zoning classification. The land was acquired under part of the property from the City of Escanaba deeded to Delta County for airport use. There are no impacts to the airport by allowing the airport to lease of the property. Subject land may provide good commercial/industrial development opportunities for the community and are well outside airport perimeter fence limits. Approval does not constitute a commitment by the FAA to financially assist in the lease of the subject airport property nor a determination of eligibility for grant-in-aid funding from the FAA. The disposition of proceeds from the lease of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 28, 2005.

FOR FURTHER INFORMATION CONTACT: Mr. Marlon D. Peña, Program Manager, Federal Aviation Administration, Great Lakes Region, Detroit Airports District Office, DET-ADO 610, 11677 South Wayne Road, Romulus, Michigan 48174. Telephone Number (734) 229-2909/FAX Number (734) 229-2950. Documents reflecting this FAA action may be reviewed at this same location or at Delta County Airport, Escanaba, Michigan.

SUPPLEMENTARY INFORMATION: Following is a legal description of the property located in Escanaba, Delta County, Michigan and described as follows:

Parcel 1 (3.6 Acres) East Parcel

From the center ¼ corner of section 1 T. 38 N., R. 23 W., measure S. 89 55′24″ W. Along the east-west ¼line of said section a distance of 564.89 feet to the point of beginning of the land herein described, thence N.0 43′38″ E. A distance of 138.97 feet, thence S.88 58′42″ E. A distance of 844.41 feet to the beginning of a 224.00 foot radius curve to the right, thence southeasterly along said curve a chord bearing of S. 51 42′43″ E. A chord distance of 271.27 feet, thence S. 37 52′53″ W. A distance of 37.31 feet, thence N.44 05′25″ W. A distance of 861.21 feet to the beginning of a 963.58 foot radius curve to the right, thence southwesterly along said curve a chord bearing of S. 89 46′32″ W. A chord distance of 37.80 feet to the beginning of 15.91 foot radius curve to the right, thence northwesterly along said curve a chord bearing of N.44 11′12″ W. A chord distance of 22.46 feet, thence N.0 43′38″ E. A distance of 15.45 feet to the point of beginning. Containing 3.53 acres.

Issued in Romulus, Michigan, on September 28, 2005.
Irene R. Porter,
Manager, Detroit Airports District Office, FAA, Great Lakes Region.

[FR Doc. 05-21391 Filed 10-25-05; 8:45 am]

BILLING CODE 4910-13-M